SMALL BUSINESS ADMINISTRATION

[License No. 06/76-0330]

SunTx Fulcrum Fund II—SBIC, L.P.; Notice Seeking Exemption Under Section 312 of the Small Business Investment Act, Conflicts of Interest

Notice is hereby given that SunTx Fulcrum Fund II—SBIC, L.P., Two Lincoln Centre, 5420 LBJ Freeway, Suite 1000, Dallas, TX 75240, a Federal Licensee under the Small Business Investment Act of 1958, as amended (“the Act”), in connection with the financing of a small concern, has sought an exemption under section 312 of the Act and section 107.730, Financings which Constitute Conflicts of Interest of the Small Business Administration (“SBA”) rules and regulations (13 CFR 107.730 (2002)). SunTx Fulcrum Fund II—SBIC, L.P. proposes to provide preferred equity security financing to Interface Security Holdings, Inc., 3773 Corporate Center Drive, Earth City, MO 63045. The financing is contemplated to provide the company with the necessary capital to purchase the interest of GAC's founders.

The financing is brought within the purview of Sec. 107.730(a)(1) of the Regulations because SunTx Fulcrum Fund, L.P. and SunTx Fulcrum Dutch Investors, L.P., an Associate of SunTx Fulcrum Fund II—SBIC, L.P., own in the aggregate 47% of the outstanding ownership of Interface. Therefore, this transaction is considered a financing of an Associate requiring prior SBA approval.

Notice is hereby given that any interested person may submit written comments on the transaction, within 15 days of the date of this publication, to the Associate Administrator for Investment, U.S. Small Business Administration, 409 Third Street, SW., Washington, DC 20416.

Dated: September 5, 2008.
A. Joseph Shepard,
Associate Administrator for Investment.

[FR Doc. E8-21898 Filed 9-17-08; 8:45 am]

BILLING CODE 8025-01-P